DEPARTMENT OF HEALTH AND HUMAN SERVICES

Centers for Disease Control and Prevention

Rescission of the Requirement for Airlines To Collect Designated Information for Passengers Destined for the United States Who Are Departing From, or Were Otherwise Present in the Democratic Republic of the Congo

AGENCY: Centers for Disease Control and Prevention (CDC), Department of Health and Human Services (HHS).

ACTION: Notice.

SUMMARY: The Centers for Disease Control and Prevention (CDC), a component of the Department of Health and Human Services (HHS), announces the rescission of the requirement for airlines and aircraft operators to collect designated information for passengers who are departing from, or were otherwise present in, the Democratic Republic of the Congo (DRC) within 21 days prior to their entry or attempted entry into the United States. This rescission is based on the CDC Director's determination that such passengers are no longer at risk of exposure to Ebola virus disease (EVD) and that their accurate and complete contact information is no longer needed to protect the health of fellow travelers and United States communities. All requirements pertaining to Guinea remain in effect.

DATES: This rescission went into effect beginning 11:59 p.m. Eastern Daylight Time on April 29, 2021.

FOR FURTHER INFORMATION CONTACT: Jennifer Buigut, Division of Global Migration and Quarantine, Centers for Disease Control and Prevention, 1600 Clifton Road NE, MS H16-4, Atlanta, GA 30329. Email: dgmqpolicyoffice@cdc.gov.

SUPPLEMENTARY INFORMATION:

Background

On March 2, 2021, CDC issued an Order requiring all airlines and aircraft operators conducting passenger-carrying operations destined for the United States to collect and transmit, and passengers to provide, designated passenger manifest information to the United States Government for passengers departing from or who were otherwise present in the DRC or the Republic of Guinea (Guinea) within 21 days of the passenger's entry or attempted entry into the United States.

Since March 1, 2021, there have been no new confirmed EVD cases reported in DRC and all contacts of cases that were being monitored for EVD have passed the 21-day incubation period. With no new cases reported in the past 42 days (2 incubation periods) no remaining hospitalized patients with EVD, and no contacts of confirmed EVD cases still requiring monitoring, the potential risk for Ebola virus exposure in DRC has greatly diminished.

CDC has determined that this information is no longer required to be collected and provided to CDC by airlines and aircraft operators as stipulated in the Order.

A copy of the Order is provided below and a copy of the signed Order can be found at https://www.cdc.gov/quarantine/order-contact-information-ebola.html.

Order of the Centers for Disease Control and Prevention, Department of Health and Human Services

Rescission of the Requirement for Airlines To Collect Designated Information for Passengers Destined for the United States Who Are Departing From, or Were Otherwise Present in, the Democratic Republic of the Congo

Under 42 CFR 71.4, 71.20, 71.31, and 71.32 as Authorized by 42 U.S.C. 264 and 268

Attention:

• All airlines and aircraft operators conducting any passenger-carrying operation destined for the United States transporting passengers who are departing from or were otherwise present in the Democratic Republic of the Congo (DRC) within the previous 21 days of the date of the person's entry or attempted entry into the United States; and

• All air passengers destined for the United States who are departing from or were otherwise present in the DRC within the previous 21 days of the date of the person's entry or attempted entry into the United States.

On March 2, 2021, I, the Director of the Centers for Disease Control and Prevention (CDC) (Director) issued an Order (Order) under 42 CFR 71.4, 71.20, 71.31, and 71.32 to: (1) All airlines and aircraft operators conducting passenger-carrying operations destined for the United States and transporting passengers departing from or who were otherwise present in the DRC or the Republic of Guinea (Guinea) within 21 days of the passenger's entry or attempted entry into the United States; and (2) all passengers destined for the United States departing from, or who were otherwise present in, the DRC or Guinea within the previous 21 days. The Order required these airlines and aircraft operators to collect and transmit, and passengers to provide, designated passenger manifest information to the United States Government.

The Order was issued in response to outbreaks of Ebola virus disease (EVD) that were identified in Guinea and the DRC in February 2021. Experience with previous EVD outbreaks (including the 2014-2016 EVD outbreak in West Africa) show that EVD can spread quickly between close contacts and within healthcare settings, often with high case fatality rates, and with substantial disruption and strain on healthcare services. Air travel has the potential to transport people, some of whom may have been exposed to a communicable disease, anywhere across the globe in less than 24 hours. The purpose of the Order was to ensure that health officials would have immediate access to accurate and complete contact information for passengers as they arrive in the United States to conduct timely public health follow up for anyone who may have been exposed to EVD.

For the reasons described below, I am hereby rescinding all requirements of the Order pertaining to the DRC. All requirements of the Order pertaining to Guinea remain in effect.

Determination:

EVD is a rare and deadly disease in people and nonhuman primates. People can get EVD through direct contact with an infected animal (bat or nonhuman primate) or a sick or dead person infected with Ebola virus. Signs and symptoms of Ebola include fever, severe headache, muscle pain, weakness, fatigue, vomiting, diarrhea, stomach pain, and unexplained bleeding. The incubation period for Ebola, from exposure to when signs or symptoms appear, can be anywhere from 2 to 21 days. The average incubation period is 8 to 10 days.

On February 7, 2021, the Ministry of Health (MOH) in the DRC announced that an EVD case had been confirmed in Biena Health Zone, North Kivu Province. Subsequent cases were confirmed. North Kivu was previously affected by EVD during the 2018-2020 Ebola outbreak, the largest in the DRC's history; this outbreak was declared over on June 25, 2020. Sequencing of samples suggested that cases were linked to cases in the area during the 2018-2020 outbreak and likely caused by a persistent infection in a survivor that led to either a relapse or sexual transmission of the virus.¹

¹ https://www.cdc.gov/vhf/ebola/outbreaks/drc/2021-february.html.

Since March 1, 2021, there have been no new confirmed EVD cases reported in the DRC and all contacts of cases that were being monitored for EVD have passed the 21-day incubation period. With no new cases reported in the past 42 days (2 incubation periods) no remaining hospitalized patients with EVD, and no contacts of confirmed EVD cases still requiring monitoring, the potential risk for Ebola virus exposure in the DRC has greatly diminished. Therefore, CDC no longer requires contact information from passengers who were departing from or were otherwise present in the DRC.

For these reasons, I hereby determine that airline travelers destined for the United States who are departing from, or were otherwise present in, the DRC in the past 21 days are no longer at risk of exposure to Ebola virus. Therefore, all requirements of the Order pertaining to airlines, aircraft operators, and passengers destined for the United States and departing from or who were otherwise present in the DRC are hereby rescinded.

All requirements of the March 2, 2021 Order pertaining to Guinea remain in effect due to a recently confirmed case. The most recent case of EVD in Guinea was confirmed on April 3, 2021.

CDC may modify this Order by an updated publication in the Federal Register or by posting an advisory to follow at www.cdc.gov.

In testimony whereof, the Director, Centers for Disease Control and Prevention, United States Department for Health and Human Services, has hereunto set her hand at Atlanta, Georgia, this 29 day of April 2021.

Authority

The CDC Director is issuing this Order pursuant to Sections 361 and 365 of the Public Health Service (PHS) Act, 42 U.S.C. 264 and 268, and implementing regulations at 42 CFR 71.4, 71.20, 71.31, and 71.32.

Dated: April 30, 2021.
Sherri Berger,
Acting Chief of Staff, Centers for Disease Control and Prevention.

[FR Doc. 2021-09470 Filed 4-30-21; 4:15 pm]

BILLING CODE 4163-18-P